DEPARTMENT OF COMMERCE

International Trade Administration

[C-122-876, C-570-218, C-201-868]

Van-Type Trailers and Subassemblies Thereof From Canada, the People's Republic of China, and Mexico: Initiation of Countervailing Duty Investigations

AGENCY: Enforcement and Compliance, International Trade Administration, Department of Commerce.

DATES: Applicable January 20, 2026.

FOR FURTHER INFORMATION CONTACT: Kelsie Hohenberger or Olivia Woolverton (Canada) at (202) 482-2517 or (202) 482-7452, respectively; Alice Maldonado (the People's Republic of China (China)) at (202) 482-5882; and Suresh Maniam (Mexico) at (202) 482-0176, AD/CVD Operations, Enforcement and Compliance, International Trade Administration, U.S. Department of Commerce, 1401 Constitution Avenue NW, Washington, DC 20230.

SUPPLEMENTARY INFORMATION:

The Petitions

On November 20, 2025, the U.S. Department of Commerce (Commerce) received countervailing duty (CVD) petitions concerning imports of van-type trailers and subassemblies thereof (van-type trailers) from Canada, China, and Mexico filed in proper form on behalf of the American Trailer Manufacturers Coalition (the petitioner),¹ the members of which are domestic producers of van-type trailers.² The CVD Petitions were accompanied by antidumping duty (AD) petitions concerning imports of van-type trailers from Canada, China, and Mexico.³

¹ The members of the American Trailer Manufacturers Coalition are Great Dane LLC, Stoughton Trailers LLC, and Wabash National Corporation.

² See Petitioner's Letter, “Petitions for the Imposition of Antidumping and Countervailing Duties on Imports of Van-Type Trailers and Subassemblies Thereof from Canada, Mexico, and the People's Republic of China,” dated November 20, 2025 (Petitions).

³ Id.

Due to a backlog of documents that were electronically filed via Enforcement and Compliance's Antidumping and Countervailing Duty Centralized Electronic Service System (ACCESS) during the Federal Government shutdown, on November 24, 2025, Commerce tolled all deadlines in administrative proceedings by 21 days.⁴ The revised deadline for the initiation of these investigations was December 31, 2025. After considering comments regarding industry support, Commerce extended the initiation deadline by 20 days to further examine the issue of industry support, because it was not clear from the Petitions whether the industry support criteria had been met.⁵

⁴ See Memorandum, “Tolling of all Case Deadlines,” dated November 24, 2025.

⁵ See Notice of Extension of the Deadline for Determining the Adequacy of the Antidumping and Countervailing Duty Petitions: Certain Van-Type Trailers and Subassemblies Thereof from Canada, Mexico, and the People's Republic of China, 91 FR 249 (January 5, 2026) (Initiation Deadline Extension Notice).

Between November 25 and January 13, 2026, Commerce requested supplemental information pertaining to certain aspects of the Petitions in supplemental questionnaires.⁶ Between December 4, 2025, and January 15, 2026, the petitioner filed timely responses to these requests for additional information.⁷

⁶ See Commerce's Letter, “Supplemental Questions,” dated December 1, 2025 (First General Issues Questionnaire); see also Country-Specific Supplemental Questionnaires: Mexico Supplemental, dated November 25, 2025; Canada Supplemental and China Supplemental, dated November 26, 2025; Commerce's Letter, “Supplemental Questions,” dated December 15, 2025 (Second General Issues Questionnaire); Commerce's Letter, “Supplemental Questions,” dated January 7, 2026 (Third General Issues Questionnaire); and Commerce's Letter, “Supplemental Questions,” dated January 13, 2026 (Fourth General Issues Questionnaire).

⁷ See Petitioner's Letters, “Petitioner Response to the First Supplemental Questionnaire Regarding Common Issues and Injury Volume I of the Petition,” dated December 8, 2025 (First General Issues Supplement); see also Petitioner's Letters, “Petitioner Response to the 1st Supplemental Questionnaire Regarding Volume III of the Petition,” dated December 1, 2025 (Canada CVD Supplement Part 1) and “Petitioner Response to items 12 through 22 of the 1st Supplemental Questionnaire Regarding Volume III of the Petition,” dated December 4, 2025 (Canada CVD Supplement Part 2) (collectively, Canada CVD Supplement); “Petitioner Response to the 1st Supplemental Questionnaire Regarding Mexico Countervailing Duties Volume V of the Petition,” dated December 1, 2025 (Mexico CVD Supplement Part 1) and “Petitioner Response to Items 9 through 17 of the 1st Supplemental Questionnaire Regarding Mexico Countervailing Duties Volume V of the Petition (Mexico CVD Supplement Part 2) (collectively, Mexico CVD Supplement); “Petitioner Response to the 1st Supplemental Questionnaire Regarding China Countervailing Duties Volume VII of the Petition,” dated December 3, 2025 (China CVD Supplement); “Petitioner Response to 2nd Supplemental Questionnaire Regarding Common Issues and Injury Volume I of the Petition,” dated December 18, 2025 (Second General Issues Supplement); Petitioner's Letter, “Response to the Third Supplemental Questionnaire Regarding Common Issues and Injury Volume I of the Petition,” dated January 9, 2026 (Third General Issues Supplement); and Petitioner's Letter, “Response to the Fourth Supplemental Questionnaire Regarding Common Issues and Injury Volume I of the Petition,” dated January 15, 2026 (Fourth General Issues Supplement).

In accordance with section 702(b)(1) of the Tariff Act of 1930, as amended (the Act), the petitioner alleges that the Government of Canada (GOCA), Government of Mexico (GOM) and Government of China (GOCN) (collectively, Governments) are providing countervailable subsidies, within the meaning of sections 701 and 771(5) of the Act, to producers of van-type trailers in Canada, China, and Mexico, and that such imports are materially injuring, or threatening material injury to, the domestic industry producing van-type trailers in the United States. Consistent with section 702(b)(1) of the Act and 19 CFR 351.202(b), for those alleged programs on which we are initiating CVD investigations, the Petitions were accompanied by information reasonably available to the petitioner supporting its allegations.

Commerce finds that the petitioner filed the Petitions on behalf of the domestic industry, because the petitioner is an interested party, as defined in section 771(9)(F) of the Act.⁸ Commerce also finds that the petitioner demonstrated sufficient industry support with respect to the initiation of the requested CVD investigations.⁹

⁸ The members of the petitioning coalition are interested parties under section 771(9)(C) of the Act.

⁹ See section on “Determination of Industry Support for the Petitions,” infra.

Periods of Investigation

Because the Petitions were filed on November 20, 2025, the period of investigation for the Canada, China, and Mexico CVD investigations is January 1, 2024, through December 31, 2024.¹⁰

¹⁰ See 19 CFR 351.204(b)(2).

Scope of the Investigations

The products covered by these investigations are van-type trailers from Canada, China, and Mexico. For a full description of the scope of these investigations, see the appendix to this notice.

Comments on the Scope of the Investigations

On December 1 and 15, 2025, Commerce requested information and clarification from the petitioner regarding the proposed scope to ensure that the scope language in the Petition is an accurate reflection of the products for which the domestic industry is seeking relief.¹¹ On December 8 and 18, 2025, the petitioner provided clarifications and revised the scope.¹² The description of merchandise covered by these investigations, as described in the appendix to this notice, reflects these clarifications.

¹¹ See First General Issues Questionnaire; see also Second General Issues Questionnaire.

¹² See First General Issues Supplement at 2-23 and Exhibits I-Supp-2 and I-Supp-3; see also Second General Issues Supplement at 1-4 and Exhibits I-Supp2-1 through I-Supp2-4.

As discussed in the Preamble to Commerce's regulations, we are setting aside a period for interested parties to raise issues regarding product coverage (i.e., scope).¹³ Commerce will consider all comments received from interested parties and, if necessary, will consult with interested parties prior to the issuance of the preliminary determinations. If scope comments include factual information, all such factual information should be limited to public information.¹⁴ Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on February 9, 2026, which is 20 calendar days from the signature date of this notice. Any rebuttal comments, which may include factual information, and should also be limited to public information, must be filed by 5:00 p.m. ET on February 19, 2026, which is 10 calendar days from the initial comment deadline.

¹³ See Antidumping Duties; Countervailing Duties; Final Rule, 62 FR 27296, 27323 (May 19, 1997) (Preamble).

¹⁴ See 19 CFR 351.102(b)(21) (defining “factual information”).

Commerce requests that any factual information that parties consider relevant to the scope of these investigations be submitted during that time period. However, if a party subsequently finds that additional factual information pertaining to the scope of the investigations may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹⁵ An electronically filed document must be received successfully in its entirety by the time and date it is due.

¹⁵ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOCA, GOM and GOCN of the receipt of the Petitions and provided an opportunity for consultations with respect to the Petition.¹⁶ Commerce held consultations with the GOM on December 5, 2025 ¹⁷ and the GOCA on December 17, 2025.¹⁸ The GOCN did not request to meet with Commerce officials.¹⁹

¹⁶ See Commerce's Letters, “Invitation for Consultations to Discuss the Countervailing Duty Petition,” dated November 21, 2025.

¹⁷ See Memorandum, “Consultations with the Government of Mexico,” dated December 5, 2025; see also GOM's Letter, “GOM's Submission,” dated December 5, 2025.

¹⁸ See Memorandum, “Consultations with the Government of Canada,” dated December 18, 2025; see also GOCA's Letter, “Government of Canada's Consultation Materials,” dated December 18, 2025; and Memorandum, “Government of Canada's Request for Consultations,” dated December 31, 2025.

¹⁹ The GOCN submitted comments on the CVD petitions. See GOCN's Letter, “Comments on CVD Petition,” dated December 5, 2025.

Additionally, given the nature of certain subsidy programs alleged in the Petitions, on November 21, 2025, Commerce issued a letter to the GOCN, providing the GOCN with the opportunity to meet with Commerce officials.²⁰

²⁰ See Commerce's Letter, “Alleged Transnational Subsidy Programs,” dated November 21, 2025.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,²¹ they do so for different purposes and pursuant to a separate and distinct authority. In addition, Commerce's determination is subject to limitations of time and information. Although this may result in different definitions of the like product, such differences do not render the decision of either agency contrary to law.²²

²¹ See section 771(10) of the Act.

²² See USEC, Inc. v. United States, 132 F.Supp.2d 1, 8 (CIT 2001) (citing Algoma Steel Corp., Ltd. v. United States, 688 F.Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.²³ Based on our analysis of the information submitted on the record, we have determined that van-type trailers, as defined in the scope, constitute a single domestic like product, and we have analyzed industry support in terms of that domestic like product.²⁴

²³ For a discussion of the domestic like product analysis as applied to these cases and information regarding industry support, see Checklists, “Countervailing Duty Investigation Initiation Checklists: Van-Type Trailers and Subassemblies Thereof from Canada, the People's Republic of China, and Mexico,” dated concurrently with, and hereby adopted by, this notice (Country-Specific CVD Initiation Checklists), at Attachment II, Analysis of Industry Support for the Antidumping and Countervailing Duty Petitions Covering Van-Type Trailers and Subassemblies Thereof from Canada, the People's Republic of China, and Mexico (Attachment II). These checklists are on file electronically via ACCESS.

²⁴ For further discussion, see Attachment II of the Country-Specific CVD Initiation Checklists.

In determining whether the petitioner has standing under section 702(c)(4)(A) of the Act, we considered the industry support data contained in the Petitions with reference to the domestic like product as defined in the “Scope of the Investigations,” in the appendix to this notice. To establish industry support, the petitioner provided the 2024 production of the domestic like product for the U.S. producers that support the Petitions and compared this to the estimated total production of the domestic like product in 2024 by the entire U.S. van-type trailers industry.²⁵ We relied on data provided by the petitioner for purposes of measuring industry support.²⁶

²⁵ Id.

²⁶ For further discussion, see Attachment II of the Country-Specific CVD Initiation Checklists.

On December 23, 2025, we received timely filed comments on industry support from Utility Trailer Manufacturing Company, LLC (UTMC), a U.S. producer of van-type trailers.²⁷ On December 23, 2025, we also received timely filed comments on industry support from Qingdao CIMC Reefer Trailer Co., Ltd.; Vanguard Refrigerated Trailer Co., Ltd.; Vanguard National Trailer Corporation; and Vanguard Reefer Trailer, Inc. (CIMC/Vanguard), a U.S. importer and foreign producer of van-type trailers.²⁸ On December 29, 2025, the petitioner responded to the comments from UTMC and CIMC/Vanguard in a timely filed rebuttal submission.²⁹ As noted above, on December 31, 2025, Commerce extended the initiation deadline by 20 days to further examine the issue of industry support, because it was not clear from the Petitions whether the industry support criteria had been met.³⁰

²⁷ See UTMC's Letter, “Comments on Initiation,” dated December 23, 2025.

²⁸ See CIMC/Vanguard's Letter, “Comments on Industry Support for Petitions,” dated December 23, 2025.

²⁹ See Petitioner's Letter, “Response to Comments on Industry Support,” dated December 29, 2025 (Petitioner's Response).

³⁰ See Initiation Deadline Extension Notice.

Our review of the data provided in the Petitions, the First General Issues Supplement, the Second General Issues Supplement, the Third General Issues Supplement, the Fourth General Issues Supplement, and the Petitioner's Response and other information readily available to Commerce indicates that the petitioner has established industry support for the Petitions.³¹ First, the Petitions established support from domestic producers (or workers) accounting for more than 50 percent of the total production of the domestic like product and, as such, Commerce is not required to take further action in order to evaluate industry support (e.g., polling).³² Second, the domestic producers (or workers) have met the statutory criteria for industry support under section 702(c)(4)(A)(i) of the Act because the domestic producers (or workers) who support the Petitions account for at least 25 percent of the total production of the domestic like product.³³ Finally, the domestic producers (or workers) have met the statutory criteria for industry support under section 702(c)(4)(A)(ii) of the Act because the domestic producers (or workers) who support the Petitions account for more than 50 percent of the production of the domestic like product produced by that portion of the industry expressing support for, or opposition to, the Petitions.³⁴ Accordingly, Commerce determines that the Petitions were filed on behalf of the domestic industry within the meaning of section 702(b)(1) of the Act.³⁵

³¹ See Attachment II of the Country-Specific CVD Initiation Checklists.

³² Id.; see also section 702(c)(4)(D) of the Act.

³³ See Attachment II of the Country-Specific CVD Initiation Checklists.

³⁴ Id.

³⁵ Id.

Injury Test

Because Canada, China, and Mexico are “Subsidies Agreement Countries” within the meaning of section 701(b) of the Act, section 701(a)(2) of the Act applies to these investigations. Accordingly, the ITC must determine whether imports of the subject merchandise from Canada, China, and/or Mexico materially injure, or threaten material injury to, a U.S. industry.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.³⁶

³⁶ For further discussion, see Country-Specific CVD Initiation Checklists at Attachment III, Analysis of Allegations and Evidence of Material Injury and Causation for the Antidumping and Countervailing Duty Petitions Covering Van-Type Trailers and Subassemblies Thereof from Canada, the People's Republic of China, and Mexico.

The petitioner contends that the industry's injured condition is illustrated by a significant increase in the volumes of subject imports; increased market share of subject imports; underselling and price depression and/or suppression; lost sales and revenues; declines in production, capacity utilization, U.S. shipments, and employment variables; adverse impact on financial performance; and negative impact on industry development and investment returns.³⁷ We assessed the allegations and supporting evidence regarding material injury, threat of material injury, causation, as well as negligibility, and we have determined that these allegations are properly supported by adequate evidence, and meet the statutory requirements for initiation.³⁸

³⁷ Id.

³⁸ Id.

Initiation of CVD Investigations

Based upon the examination of the Petitions and supplemental responses, we find that they meet the requirements of section 702 of the Act. Therefore, we are initiating CVD investigations to determine whether imports of van-type trailers from Canada, China, and Mexico benefit from countervailable subsidies conferred by the GOCA, GOCN, and GOM, respectively. In accordance with section 703(b)(1) of the Act and 19 CFR 351.205(b)(1), unless postponed, we will make our preliminary determinations no later than 65 days after the date of this initiation.

Canada

Based on our review of the Petitions, we find that there is sufficient information to initiate a CVD investigation on 25 of the 26 programs alleged by the petitioner. For a full discussion of the basis for our decision to initiate on each program, see the Canada CVD Initiation Checklist. A public version of the initiation checklist for this investigation is available on ACCESS.

Mexico

Based on our review of the Petitions, we find that there is sufficient information to initiate a CVD investigation on 21 of the 22 programs alleged by the petitioner. For a full discussion of the basis for our decision to initiate on each program, see the Mexico CVD Initiation Checklist. A public version of the initiation checklist for this investigation is available on ACCESS.

China

Based on our review of the Petitions, we find that there is sufficient information to initiate a CVD investigation on 52 of the 53 programs alleged by the petitioner. For a full discussion of the basis for our decision to initiate on each program, see the China CVD Initiation Checklist. A public version of the initiation checklist for this investigation is available on ACCESS.

Respondent Selection

The petitioner identified seven companies in Canada, 11 companies in Mexico, and 37 companies in China as producers and/or exporters of van-type trailers.³⁹ Commerce intends to follow its standard practice in CVD investigations and calculate company-specific subsidy rates in these investigations. In the event that Commerce determines that the number of known producers/exporters is large, and it cannot individually examine each company based upon Commerce's resources, Commerce intends to select mandatory respondents based on quantity and value (Q&V) questionnaires issued to the potential respondents. Commerce normally selects mandatory respondents in CVD investigations using U.S. Customs and Border Protection (CBP) entry data for U.S. imports under the appropriate Harmonized Tariff Schedule of the United States (HTSUS) subheadings listed in the scope of the investigations. However, for these investigations, the main HTSUS subheadings under which the subject merchandise would enter (i.e., 8716.39.0040 and 8716.90.5060) are basket categories under which non-subject merchandise may also enter. Therefore, instead of relying on CBP entry data in selecting respondents, we intend to issue Q&V questionnaires to each potential respondent for which there is complete address information on the record.

³⁹ See Petitions at Volume I (page 18 and Exhibit I-13); see also First General Issues Supplement at 1-2 and Exhibit I-Supp-1.

Notwithstanding the decision to rely on Q&V questionnaires for respondent selection, due to the large number of producers and/or exporters identified in the Petitions for China, Commerce has determined to limit the number of Q&V questionnaires that it will issue to exporters and producers based on CBP data for van-type trailers from China during the POI under the appropriate HTSUS subheadings listed in the “Scope of the Investigations,” in the appendix. Accordingly, for China, Commerce will send Q&V questionnaires to the largest producers and exporters that are identified in the CBP data for which there is complete address information on the record.

Commerce will post the Q&V questionnaires along with filing instructions on Commerce's website at https://www.trade.gov/ec-adcvd-case-announcements. Exporters/producers of van-type trailers from Canada, China, and Mexico that do not receive Q&V questionnaires by mail may still submit a response to the Q&V questionnaire and can obtain the Q&V questionnaire from Enforcement and Compliance's website. Responses to the Q&V questionnaire must be submitted by the relevant producers/exporters no later than 5:00 p.m. ET on February 3, 2026, which is two weeks from the signature date of this notice. All Q&V responses must be filed electronically via ACCESS. An electronically filed document must be received successfully, in its entirety, by ACCESS no later than 5:00 p.m. ET on the deadline noted above.

Interested parties must submit applications for disclosure under an administrative protective order (APO) in accordance with 19 CFR 351.305(b). As stated above, instructions for filing such applications may be found on Commerce's website at https://www.trade.gov/administrative-protective-orders.

Distribution of Copies of the Petitions

In accordance with section 702(b)(4)(A) of the Act and 19 CFR 351.202(f), a copy of the public version of the Petitions has been provided to the GOCA, GOCN, and GOM via ACCESS. To the extent practicable, we will attempt to provide a copy of the public version of the Petitions to each exporter named in the Petitions, as provided under 19 CFR 351.203(c)(2).

ITC Notification

Commerce will notify the ITC of its initiation, as required by section 702(d) of the Act.

Preliminary Determinations by the ITC

The ITC will preliminarily determine, within 25 days after the date on which the ITC receives notice from Commerce of initiation of the investigations, whether there is a reasonable indication that imports of van-type trailers from Canada, China, and/or Mexico are materially injuring, or threatening material injury to, a U.S. industry.⁴⁰ A negative ITC determination for either country will result in the investigation being terminated with respect to that country.⁴¹ Otherwise, these CVD investigations will proceed according to statutory and regulatory time limits.

⁴⁰ See section 703(a)(1) of the Act.

⁴¹ Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴² and, if the information is submitted to rebut, clarify, or correct factual information already on the record, to provide an explanation identifying the information already on the record that the factual information seeks to rebut, clarify, or correct.⁴³ Time limits for the submission of factual information are addressed in 19 CFR 351.301, which provides specific time limits based on the type of factual information being submitted. Interested parties should review the regulations prior to submitting factual information in these investigations.

⁴² See 19 CFR 351.301(b).

⁴³ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴⁴ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁴⁵

⁴⁴ See 19 CFR 351.302.

⁴⁵ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁴⁶ Parties must use the certification formats provided in 19 CFR 351.303(g).⁴⁷ Commerce intends to reject factual submissions if the submitting party does not comply with the applicable certification requirements.

⁴⁶ See section 782(b) of the Act.

⁴⁷ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letters of appearance). Note that Commerce has amended certain of its requirements pertaining to the service of documents in 19 CFR 351.303(f).⁴⁸

⁴⁸ See Administrative Protective Order, Service, and Other Procedures in Antidumping and Countervailing Duty Proceedings, 88 FR 67069 (September 29, 2023).

This notice is issued and published pursuant to sections 702 and 777(i) of the Act, and 19 CFR 351.203(c).

Dated: January 20, 2026.
Christopher Abbott,
Deputy Assistant Secretary for Policy and Negotiations, performing the non-exclusive functions and duties of the Assistant Secretary for Enforcement and Compliance.

Appendix

Scope of the Investigations

The merchandise covered by these investigations consists of certain van-type trailers and subassemblies thereof, whether finished or unfinished, whether assembled or unassembled, regardless of the number of axles, for carriage of goods. Van-type trailers are typically, but not limited to, rectangular cuboid trailers with a fully enclosed cargo space consisting of a front nose (with or without a refrigeration unit), side walls (with or without doors), movable rear panels (whether roll-up doors, swing doors, or another configuration), a floor and subframe, an affixed or removable roof, a suspension and axle system, wheels and tires, brakes, a lighting and electrical system, landing gear, and coupling for towing behind a truck tractor or a connection system for training behind another van-type trailer. Covered van-type trailers are those with a gross vehicle weight rating of greater than 26,000 pounds.

Subject merchandise includes, but is not limited to, the following subassemblies:

• Van-type trailer subframes, or sections of van-type trailer frames, typically consisting of welded crossmembers and slider rails for attaching the running gear;

• Nose wall, side wall, and roof subassemblies, whether insulated or non insulated, and with or without top, bottom, or side rails;

• Rear door frame, whether for swing or roll-up doors, with or without installed doors, bumpers, bumper plates, or reinforcing plates for liftgate;

• Door assemblies, whether for rear swing doors, roll-up doors, side doors or any other configuration, with or without lockrods, handles, hinges, or hinge pins;

• Rear impact guard subassemblies, typically consisting of a fabricated horizontal structural component (such as a guard tube) and uprights for connection to the underside of the rear frame;

• Coupler assembly for connection to truck tractor's fifth wheel, typically consisting of main beams and cross members, support plates, and front nose wrap, and with or without kingpin installed;

• Running gear subassemblies or axle assemblies for connection to the subframe, which may or may not include suspension(s), wheel end components, slack adjusters, dressed axles, brake chambers, locking pins, wheels, and tires; and

• Landing gear subassemblies, typically consisting of two landing legs, a cross channel, braces, bracketing, a cross shaft, and a crank handle.

These subassemblies are subject to the investigations, whether entered alone or with other subassemblies and whether assembled or unassembled and whether finished or unfinished. The absence of any subassembly from an otherwise finished or unfinished van-type trailer does not remove the van-type trailer from coverage.

Subject merchandise also includes components entered with (i.e., on the same bill of lading as) van-type trailers and subassemblies, such as, but not limited to: hub and drum assemblies, brake assemblies (either drum or disc), bare axles, brake chambers, suspensions and suspension components, wheel end components, landing gear legs, wheels, tires, brake control systems, electrical harnesses and lighting systems, lift gate systems, tire inflation systems, or refrigeration units (with or without evaporators or fuel tanks) whether assembled or unassembled, whether as part of a kit or not, and whether or not accompanied by additional components that constitute as part of an unfinished and/or unassembled van-type trailer and subassemblies thereof that are subject to the investigations.

Processing of finished and unfinished van-type trailers and subassemblies, such as trimming, cutting, grinding, notching, punching, drilling, painting, coating, staining, finishing, assembly, or any other processing either in the country of manufacture of the in-scope product or in a third country does not remove the product from the scope. Inclusion of other components not identified as comprising the finished or unfinished van-type trailer does not remove the product from the scope.

Specifically excluded are subassemblies covered by the scope of the antidumping and countervailing duty orders on certain chassis and subassemblies thereof from the People's Republic of China. See Certain Chassis and Subassemblies Thereof from the People's Republic of China: Antidumping Duty Order, 86 FR 36093 (July 8, 2021) and Certain Chassis and Subassemblies Thereof from the People's Republic of China: Countervailing Duty Order and Amended Final Affirmative Countervailing Duty Determination, 86 FR 24844 (May 10, 2021).

The finished and unfinished van-type trailers subject to these investigations are typically classified in the Harmonized Tariff Schedule of the United States (HTSUS) at subheadings: 8716.39.0040 and 8716.90.5060. Imports of finished and unfinished subassemblies may also enter under HTSUS subheadings 7308.30.5050, 7308.90.9590, 7326.90.8688, 8708.29.1500, 8708.99.8180, 8716.90.5010. While the HTSUS subheadings are provided for convenience and customs purposes, the written description of the merchandise under investigation is dispositive.

[FR Doc. 2026-01457 Filed 1-23-26; 8:45 am]

BILLING CODE 3510-DS-P